DEPARTMENT OF COMMERCE

Foreign-Trade Zones Board

[B-46-2014]

Foreign-Trade Zone 176—Rockford, Illinois; Application for Expansion of Subzone 176E; UniCarriers Americas Corporation; Marengo, Illinois

An application has been submitted to the Foreign-Trade Zones (FTZ) Board by the Greater Rockford Airport Authority, grantee of FTZ 176, requesting an expansion of Subzone 176E on behalf of UniCarriers Americas Corporation, located in Marengo, Illinois. The application was submitted pursuant to the provisions of the Foreign-Trade Zones Act, as amended (19 U.S.C. 81a-81u), and the regulations of the FTZ Board (15 CFR part 400). It was formally docketed on June 26, 2014.

Subzone 176E was approved by the FTZ Board on August 21, 2006 (Board Order 1475, 71 FR 51184, 8-29-2006). The subzone currently consists of the following sites: Site 1 (23 acres) 240 N. Prospect Street, Marengo, McHenry County; Site 2 (11 acres) 19720 East Grant Highway, Marengo, McHenry County; and, Site 3 (1.86 acres) 308 South Division Street, Harvard, McHenry County.

The current request involves expanding the subzone to include an additional site: Site 4 (19 acres) 201 N. Prospect Street, Marengo, McHenry County. No authorization for additional production activity has been requested at this time.

In accordance with the FTZ Board's regulations, Elizabeth Whiteman of the FTZ Staff is designated examiner to review the application and make recommendations to the FTZ Board.

Public comment is invited from interested parties. Submissions shall be addressed to the FTZ Board's Executive Secretary at the address below. The closing period for their receipt is August 11, 2014. Rebuttal comments in response to material submitted during the foregoing period may be submitted during the subsequent 15-day period to August 25, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Elizabeth Whiteman at Elizabeth.Whiteman@trade.gov or (202) 482-0473.

Dated: June 26, 2014.
Elizabeth Whiteman,
Acting Executive Secretary.

[FR Doc. 2014-15421 Filed 6-30-14; 8:45 am]

BILLING CODE 3510-DS-P